DEPARTMENT OF TRANSPORTATION

Coast Guard

33 CFR Parts 110, 117, 165

[CGD09-01-004]

RIN 2115-AA97

Sail Detroit and Tall Ship Celebration 2001, Detroit and Saginaw Rivers, MI

AGENCY: Coast Guard, DOT.

ACTION: Temporary final rule.

SUMMARY: The Coast Guard is establishing temporary safety zones and anchorage areas during the Sail Detroit tall ship visit and harbor celebration in the Detroit River, Detroit, Michigan, to be held July 18-24, 2001 and the Tall Ship Celebration 2001 to be held July 26-30, 2001 in the Saginaw River, Bay City, Michigan. These zones are necessary to promote the safe navigation of vessels and the safety of life and property during the periods of heavy vessel traffic expected during these events. These zones are intended to restrict vessel traffic from a portion of the Detroit River and restrict vessel traffic in a portion of the Saginaw River.

DATES: This rule is effective from July 18-30, 2001, except for § 110.T09-007 and the suspension of § 110.206 which are effective July 22, 2001 from 7:30 a.m. to 5:30 p.m. and the amendments to § 117.647 which are effective July 26, 2001 from 1 p.m. to 7 p.m.

ADDRESSES: Comments and material received from the public, as well as documents indicated in this preamble as being available in the docket, are part of docket CGD09-01-004 and are available for inspection or copying at U.S. Coast Guard Marine Safety Office Detroit, 110 Mt. Elliott Ave., Detroit, MI 48207, between 9 a.m. and 3 p.m., Monday through Friday, except Federal holidays.

FOR FURTHER INFORMATION CONTACT: Lieutenant Dennis O'Mara, Marine Safety Office Detroit, Detroit, MI, (313) 568-9580.

SUPPLEMENTARY INFORMATION:

Regulatory History

On April 9, 2001, the Coast Guard published a notice of proposed rulemaking (NPRM) entitled Sail Detroit and Tall Ship Celebration 2001, Detroit and Saginaw Rivers, MI in the Federal Register (66 FR 18419). The Coast Guard did not receive any letters commenting on the proposed rulemaking. No public hearing was requested, and none was held.

Background and Purpose

These temporary regulations are for the Sail Detroit tall ship visit and harbor celebration and Tall Ship Celebration 2001 to be held in the Detroit and Saginaw Rivers, respectively. The Sail Detroit tall ship visit is scheduled to be part of Detroit 300, the celebration to honor the 300th birthday of Detroit's founding. It is a shared international event between the sister cities of Detroit, MI and Windsor, Ontario Canada. Temporary safety zones will be established along both waterfront areas, once tall ships are moored. Sail Detroit will be highlighted by a 5-mile historic vessel parade (approximately 50 vessels, including 20 or more tall ships), waterside events, in-port tours, waterside moored vessel viewing, and a re-enactment of Cadillac's landing in Detroit. The parade of historic ships will take place in the Detroit River on July 22, 2001 between the Ojibway Anchorage and Belle Isle. The re-enactment of Antoine de la Mothe Cadillac's 1701 landing in Detroit will take place on July 24, 2001, between Belle Isle and Hart Plaza. The Coast Guard will establish a temporary safety zone to ensure the safety of both events.

Tall Ship Celebration 2001 is a community-wide maritime festival in Bay City, MI, featuring a 6-mile ship parade, in-port tours and waterside moored vessel viewing between July 26 and July 30, 2001. A parade of ships begins the Bay City celebration, forming in Saginaw Bay and traversing the Saginaw River to the Veterans Memorial Bridge.

Vessels will moor at docks along Veterans Park and Wenonah Park in Bay City near the bridge. There will be a temporary moving safety zone around the parade vessels during the parade to ensure the safety of passengers, crew and visitors. A second temporary safety zone between the Liberty Street Bridge and the Veterans Memorial Bridge will be established, once the sailing vessels are moored.

These temporary regulations are prompted by the high degree of control necessary to ensure the safety of participating and spectator vessels for the events occurring in the Detroit River, Saginaw Bay, and the Saginaw River during this time. These regulations provide guidance on vessel movement controls, temporary anchorage regulations, and safety zones that will be in effect at specified marine locations during specified times. The temporary regulations are specifically designed to minimize adverse impacts on commercial users of the affected waterways.

Discussion of Comments and Changes

The Coast Guard received no letters commenting on the proposed rulemaking. The event sponsors for the Tall Ship Celebration 2001, to be held in Bay City, have cancelled the planned fireworks display. However, since the temporary safety zone in place for the moored vessels provided a sufficient degree of safety, no specific regulations were proposed for the fireworks. References to a fireworks display in Bay City have been removed from the preamble, but no regulatory changes were made to this rulemaking.

Regulatory Evaluation

This temporary final rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979). Due to the short duration of these marine events and the advance notice provided to the marine community, we expect the economic impact of this temporary final rule to be so minimal that a full Regulatory Evaluation under paragraph 10e of the regulatory policies and procedures of DOT is unnecessary. The greatest potential impact on port users will occur on two days, Sunday, July 22, 2001, and Thursday, July 26, 2001. On July 22, the Sail Detroit Ford Parade of Ships will take place in the Detroit River, and on July 26, the Tall Ship Celebration 2001 parade of ships will take place in Saginaw Bay and the Saginaw River. On both of these days, the combination of parade vessels and large numbers of recreational vessels will cause potential disruptions to normal port activity. However, due to the temporary nature of these disruptions, they can be planned for in advance to minimize the economic hardship that might result. The largest segments of the port community facing disruptions are the operators of deep draft vessels and the terminals they call on. In addition to the extended advance notice of these events provided by the Captain of the Port Detroit, deep draft vessel traffic will be accommodated as best as possible on these two days. Moreover, provisions have been made by the Sail Detroit sponsor to allow vessels transiting up-bound in the Detroit River on Sunday, July 22, to be included in the ship parade.

The Coast Guard expects that the publication and advertisement of these events and these regulations will allow the industry sufficient time to adjust schedules and minimize adverse impacts. Compensating for any adverse impacts are the favorable economic impacts that these events will have on commercial activity in the area as a whole from the boaters and tourists these events are expected to attract.

Small Entities

Under the Regulatory Flexibility Act (5 U.S.C. 601-612), we considered whether this temporary final rule would have a significant economic impact on a substantial number of small entities. The term “small entities” comprises small businesses, not-for-profit organizations that are independently owned and operated and are not dominant in their fields, and governmental jurisdictions with populations of less than 50,000.

For the reasons stated in the Regulatory Evaluation section above, the Coast Guard certifies under 5 U.S.C. 605(b) that this rule will not have a significant economic impact on a substantial number of small entities.

If you think that your business, organization, or governmental jurisdiction qualifies as a small entity and that this rule will have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this temporary final rule so that they can better evaluate its effects on them and participate in the rulemaking. If this rule will affect your small business, organization, or governmental jurisdiction and you have questions concerning its provisions or options for compliance, please contact Marine Safety Office Detroit (see ADDRESSES).

Collection of Information

This temporary final rule calls for no new collection of information under the Paperwork Reduction Act of 1995 (44 U.S.C. 3501-3520).

Federalism

We have analyzed this temporary final rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Environment

The Coast Guard considered the environmental impact of this rule and concluded that, under figure 2-1, paragraphs 34 (f), (g), and (h), and 32 (e) of Commandant Instruction M16475.1C, this rule will have no significant environmental impact and is categorically excluded from further environmental documentation. A “Categorical Exclusion Determination” is available in the docket where indicated under ADDRESSES.

Energy Effects

We have analyzed this rule under Executive order 13211, Actions Concerning Regulations that Significantly Affect Energy Supply, Distribution, or Use. We have determined that it is not a “significant regulatory action” under Executive Order 12866 and is not likely to have a significant adverse effect on the supply, distribution, or use of energy. It has not been designated by the Administrator of the office of Information and Regulatory Affairs as a significant energy action. Therefore, it does not require a statement of Energy Effects under Executive Order 13211.

List of Subjects

33 CFR Part 110

Anchorage Grounds.

33 CFR Part 117

Bridges.

33 CFR Part 165

Harbors, Marine safety, Navigation (water), Reporting and record keeping requirements, Security measures, Waterways.

For the reasons discussed in the preamble, the Coast Guard is amending 33 CFR parts 110, 117, and 165, as follows:

PART 110—ANCHORAGE REGULATIONS [AMENDED]

1. The authority citation for part 110 continues to read as follows:

Authority: 33 U.S.C. 471, 1221 through 1236, 2030, 2035, 2071; 49 CFR 1.46 and 33 CFR 1.05-1(g).

2. On July 22, 2001, from 7:30 a.m. to 5:30 p.m., temporarily suspend § 110.206.

3. On July 22, 2001, from 7:30 a.m. to 5:30 p.m., temporarily add new § 110.T09-007 to read as follows:

§ 110.T09-007 Detroit River, Detroit, Michigan.

(a) Anchorages. Coordinates for temporary spectator anchorage areas in this section are based on North American Datum 1983 (NAD83).

(1) Temporary Spectator Anchorage Area A. The area specifically bounded downriver by a line drawn from the United States shoreline at position 42°19′36″ N, 083°02′37″ W, to the Griswold Street Junction Buoy (LLNR 8200); and bounded on the south by a line drawn from the Griswold Street Junction Buoy to the Belle Isle Lower Lighted Junction Buoy (LLNR 8205); and bounded upriver by a line drawn from the Belle Isle Lower Lighted Junction Buoy to the United States shoreline at position 42°20′24″ N, 083°01′08″ W; and bounded on the north by the United States shoreline between positions 42°19′36″ N, 083°02′37″ W, and 42°20′24″ N, 083°01′08″ W is Temporary Spectator Anchorage Area A.

(2) Temporary Spectator Anchorage Area B. The area specifically bounded upriver by a line drawn from Riverfront Marina South Entrance Light “1” (LLNR 8175) to a point 200 yards from the United States shoreline at position 42°19′18″ N, 083°03′12″ W (point 1); and bounded downriver by the Ambassador Bridge from the United States shoreline at position 42°18′52″ N, 083°04′32″ W, to a point 200 yards from the U.S. shoreline at position 42°18′46″ N, 083°04′29″ W (point 2); and bounded on the south by a line 200 yards offshore connecting points 1 and 2 parallel to the U.S. shoreline; and bounded on the north by the U.S. shoreline is Temporary Spectator Anchorage Area B.

(3) Temporary Spectator Anchorage Area C. The area specifically bounded upriver by a line drawn from the United States shoreline at position, 42°18′46″ N, 083°04′42″ W, to a point in the Detroit River 200 yards from the shoreline at position 42°18′42″ N, 083°04′38″ W (point 3); and bounded downriver by a line drawn between a point in the Detroit River at position 42°17′42.5″ N, 083°05′36.5″ W (point 4), and a point on the U.S. shoreline at position 42°17′46″ N, 083°05′43″ W; and bounded on the south by a line drawn 200 yards from the United States shoreline between points 3 and 4, and bounded on the west by the U.S. shoreline is Temporary Spectator Anchorage Area C.

(b) Local regulations.

(1) During the effective period, all vessels operating within the Temporary Spectator Anchorage Areas A, B or C shall proceed directly to or from anchor at no wake speeds, not to exceed five (5) miles per hour, unless otherwise authorized by the Captain of the Port Detroit or other on-scene Coast Guard patrol personnel.

(2) Vessel operators may not leave unattended vessels in the anchorage at any time.

(3) Vessel operators may not nest or tie off to other vessels or buoys, or to the adjacent shoreline.

(4) Vessel operators may not maneuver between anchored vessels.

(5) Vessel operators shall display the proper anchoring shapes or lights, as defined by navigation rules.

(6) Vessel operators shall depart the anchorage areas after termination of the effective period. Once directed to do so by on-scene patrol personnel, vessels shall depart as follows:

(i) Vessels anchored in Anchorage Areas A, B or C may depart in a down-bound direction as soon as the last participating parade vessel passes by the anchorage.

(ii) Up-bound vessels will depart as directed by Coast Guard patrol personnel, based on congestion and existing vessel traffic conditions.

(7) Vessel operators shall comply with the instructions of the on-scene Coast Guard personnel. On-scene Coast Guard personnel include commissioned, warrant, and petty officers of the United States Coast Guard on board Coast Guard, Coast Guard Auxiliary, local, state, and federal law enforcement vessels.

(c) Caution. Mariners are cautioned that the areas designated as anchorage grounds in this section have not been subject to any special survey or inspection and that charts may not show all riverbed obstructions or the shallowest depths. In addition, the anchorages are in areas of substantial currents, and not all anchorages are over good holding ground. Mariners are advised to take appropriate precautions when using these temporary anchorages. These are not special anchorage areas. Vessels must display anchor lights or shapes, as required by the navigation rules. All anchorages in this paragraph are effective as specified. Vessel operators using the anchorages in this paragraph must comply with the general operational requirements specified in paragraph (b) of this section.

PART 117—DRAWBRIDGE OPERATION REGULATIONS

4. The authority citation for part 117 continues to read as follows:

Authority: 33 U.S.C. 499; 49 CFR 1.46; 33 CFR 1.05-1(g); § 117.255 also issued under authority of Pub. L. 102-587, 106 Stat. 5039.

5. From 1 p.m. until 7 p.m., Thursday, July 26, 2001, in section 117.647, suspend paragraph (b) and add paragraphs (f) and (g) to read as follows:

§ 117.647 Saginaw River.

* * * * *

(f) The draws of the Veterans Memorial bridge, mile 5.0, and Lafayette Street bridge, mile 6.2, in Bay City, shall open on signal from March 16 through December 15, except as follows:

(1) From 6:30 a.m. to 8:30 a.m. and 3:30 p.m. to 5:30 p.m. except Saturdays, Sundays, and holidays observed in the locality, the draws need not be opened for the passage of vessels of less than 50 gross tons.

(2) From 7:30 a.m. to 8:30 a.m. and 4:30 p.m. to 5:30 p.m. except on Sundays and Federal holidays, the draws need not be opened for the passage of down-bound vessels of over 50 gross tons.

(3) From 8 a.m. to 8 p.m. on Saturdays, Sundays, and Federal holidays, the draws of the Lafayette Street bridge need not be opened for the passage of pleasure craft except for three minutes before to three minutes after the hour and half hour.

(4) From 8 a.m. to 8 p.m. on Saturdays, Sundays, and Federal holidays, the draws of the Veterans Memorial bridge need not be opened for the passage of pleasure craft, except from three minutes before to three minutes after the quarter hour and three quarter hour.

(5) From December 16 through March 15, the draws of these bridges shall open on signal if at least 12 hours notice is given.

(g) From 1 p.m. through 7 p.m., Thursday, July 26, 2001, the draws of the Belinda Street (Independence) bridge, mile 3.3, and the Liberty Street bridge, mile 4.4, shall be closed to navigation, except that the draws shall open upon signal from vessels participating in the Tall Ship Celebration 2001 Parade of Ships.

PART 165—REGULATED NAVIGATION AREAS AND LIMITED ACCESS AREAS [AMENDED]

6. The authority citation for part 165 continues to read as follows:

Authority: 33 U.S.C. 1231; 50 U.S.C. 191, 33 CFR 1.05-1(g), 6.04-1, 6.04-6, 160.5; 49 CFR 1.46.

7. Add temporary section 165.T09-008 to read as follows:

§ 165.T09-008 Safety Zone: Hart Plaza to the Joe Louis Arena, Detroit River, Detroit, Michigan.

(a) Location. The following is a Safety Zone: All U.S. waters of the Detroit River extending 100 yards from the shoreline between the easternmost tip of Hart Plaza to the westernmost point of the River Promenade at Joe Louis Arena. The safety zone will enclose the area bounded by a line drawn from point 42°19′36.5″ N, 083°02′31″ W, on the U.S. shoreline at the easternmost tip of Hart Plaza, extending southward 100 yards into the Detroit River to point 42°19′34″ N, 083°01′31″ W, then westward parallel to the U.S. shoreline to point 42°19′24″ N, 083°03′05″ W, then northward to the U.S. shoreline at the westernmost tip of the Riverfront Promenade near the Joe Louis Arena at point 42°19′26″ N, 083°03′06.5″ W, then back eastward along the U.S. shoreline to point 42°19′36.5″ N, 083°02′31″ W. All coordinates in this section reference 1983 North American Datum (NAD83).

(b) Effective Date. This section is effective from 12 p.m. on Wednesday, July 18, 2001, through 9:30 a.m. on Sunday, July 22, 2001.

(c) Regulations. Vessels operating in the Detroit River within 100 yards of any moored tall ship sailing vessel during the effective period must proceed:

(1) In traffic patterns as directed by on-scene Coast Guard patrol craft, so as not to hazard tall ships or shore-side visitors boarding tall ships.

(2) At speeds that create minimal wake near any moored tall ship in the Detroit River, and not within 50 feet of the hull of any moored tall ship.

8. Add temporary § 165.T09-009 to read as follows:

§ 165.T09-009 Safety Zone: Detroit River, Detroit, Michigan.

(a) Location. The following is a safety zone: All U.S. waters of the Detroit River bounded by a line drawn from a point on the United States shoreline near the Nicholson Marine Terminal in River Rouge, MI, at position 42°15′21″ N, 083°07′14″ W, to a point on the international boundary line at position 42°15′14″ N, 083°07′00″ W; thence northeasterly, along the international boundary line to a point due south of Coast Guard Station Belle Isle, at position 42°20′22″ N, 082°57′35″ W; thence, due north to Coast Guard Station Belle Isle. The safety zone includes all waters of the Detroit River, down-bound from the Coast Guard Station Belle Isle, around the western tip of the island, along the MacArthur Bridge, and then along the length of the entire Detroit waterfront to Nicholson Terminal, River Rouge, MI, out to the U.S.-Canadian border, not to include waters of Temporary Spectator Anchorage Areas A, B or C, as defined by Sec. 110.T09-007. All coordinates in this section reference 1983 North American Datum (NAD83).

(b) Effective period. This section will be in effect from 12:30 p.m. until 5:30 p.m. on Sunday, July 22, 2001.

(c) Regulations.

(1) The general regulations in 33 CFR 165.23 apply.

(2) All persons and vessels shall comply with the instructions of the Coast Guard Captain of the Port or the designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

9. Add temporary § 165.T09-010 to read as follows:

§ 165.T09-010 Safety Zone: Detroit River, Detroit, Michigan.

(a) Location. All coordinates in this section reference 1983 North American Datum (NAD83). The following areas are safety zones:

(1) All U.S. waters of the Detroit River within 100-yards of a ceremonial barge with its center in approximate position 42°19′32″ N, 083°0′41″ W (located in the vicinity of Hart Plaza, Detroit, Michigan).

(2) All U.S. waters of the Detroit River, 100 yards in all directions surrounding a group of six (6) to ten (10) canoes as they transit from the Detroit Yacht Club at position 42°21′00″ N, 082°58′30″ W, to the ceremonial barge located near Hart Plaza at approximate position 42°19′32″ N, 083°02′41″ W; and continue to Riverside Park at position 42°18′46″ N, 083°04′42″ W.

(b) Effective Period. The safety zone shall be in effect from 1 p.m. until 7 p.m. on Tuesday, July 24, 2001.

(c) Regulations.

(1) The general regulations in 33 CFR 165.23 apply.

(2) All persons and vessels shall comply with the instructions of the Coast Guard Captain of the Port or the designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

10. Add temporary § 165.T09-011 to read as follows:

§ 165.T09-011 Safety Zone: Saginaw Bay and River, Bay City, Michigan.

(a) Location. The following area is a safety zone: All waters of Saginaw Bay and the Saginaw River within a 100-yard radius and one mile ahead of the entire group of 12 to 20 tall ships and other parade vessels as they transit from position 43°43′54″ N, 083°46′54″ W, “Light 12” (LLNR 10644) to Veterans Memorial Bridge.

(b) Effective Date. This section is effective from 1 p.m. until 7 p.m. on July 26, 2001.

(c) Regulations.

(1) The general regulations in 33 CFR 165.23 apply.

(2) All persons and vessels shall comply with the instructions of the Coast Guard Captain of the Port or the designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

11. Add temporary § 165.T09-012 to read as follows:

§ 165.T09-012 Safety Zone: Veterans Park and Wenonah Park, Saginaw River, Bay City, Michigan.

(a) Location. The following area is a safety zone: All waters of the Saginaw River between the Liberty Street Bridge at mile 4.99 and the Veterans Memorial Bridge at mile 5.60.

(b) Effective Date. The safety zone will be in effect from 7 p.m. on Thursday, July 26, 2001, through 12 p.m., noon, on Monday, July 30, 2001.

(c) Regulations. The following special regulations apply:

(1) The general regulations in 33 CFR 165.23 apply.

(2) Vessels operating in the Saginaw River within the safety zone during the effective period must proceed at no wake speeds, and not within 50 feet of the hull of any moored tall ship, in traffic patterns as directed by on-scene Coast Guard patrol craft, so as not to hazard tall ships or shore-side visitors boarding tall ships.

(3) Vessels shall remain outside the designated hazard area in the safety zone, as directed by on-scene Coast Guard personnel, during any evening fireworks event.

(4) All persons and vessels shall comply with the instructions of the Coast Guard Captain of the Port or designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

Dated: June 12, 2001.
James D. Hull,
Rear Admiral, U.S. Coast Guard, Commander, Ninth Coast Guard District.

[FR Doc. 01-15385 Filed 6-15-01; 11:14 am]

BILLING CODE 4910-15-U